DEPARTMENT OF STATE

[Public Notice: 7451]

30-Day Notice of Proposed Information Collection: Medical Examination Forms for Immigrant or Refugee Applicants

ACTION: Notice of request for public comment and submission to OMB of proposed collection of information.

SUMMARY: The Department of State has submitted the following information collection request to the Office of Management and Budget (OMB) for approval in accordance with the Paperwork Reduction Act of 1995.

• Title of Information Collection: Medical Examination for Immigrant or Refugee Applicant.

• OMB Control Number: 1405-0113.

• Type of Request: Revision of a Currently Approved Collection.

• Originating Office: Bureau of Consular Affairs, Office of Visa Services (CA/VO).

• Form Number: DS-2053, DS-2054, DS-3030, DS-3024, DS-3025, DS-3026.

• Respondents: Immigrant visa and refugee applicants.

• Estimated Number of Respondents: 630,000 per year.

• Estimated Number of Responses: 630,000 per year.

• Average Hours per Response: 1 hour.

• Total Estimated Burden: 630,000 hours annually.

• Frequency: Once per application.

• Obligation to Respond: Required to Obtain Benefit.

DATES: Submit comments to the Office of Management and Budget (OMB) for up to 30 days from May 11, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus of the Office of Visa Services, U.S. Department of State, 2401 E. Street, NW. L-603, Washington, DC 20522, who may be reached at (202) 663-2910.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: INA Section 221(d) requires that prior to the issuance of an immigrant visa the applicant undergo a physical and mental examination. The results of the medical examination are used to determine the alien's eligibility for such a visa under INA 212(a)(1). INA Section 412(b)(4)(B) requires that the United States Government “provide for the identification of refugees who have been determined to have medical conditions affecting the public health and requiring treatment.” Form DS-2053, Medical Examination for Immigrant or Refugee Applicant (1991 Technical Instructions); Form DS-2054, Medical Examination for Immigrant or Refugee Applicant (2007 Technical Instructions); Form DS-3024, Chest X-Ray and Classification Worksheet (1991 Technical Instructions); Form DS-3030, Chest X-Ray and Classification Worksheet (2007 Technical Instructions); Form DS-3025, Vaccination Documentation Worksheet; Form DS-3026, Medical History and Physical Examination Worksheet, are designed to record the results of the medical examination. The panel physician performs the medical examination of the applicant and completes the forms. Medical exams may also be required occasionally for nonimmigrant visa applicants.

Methodology: The electronic medical forms will be submitted electronically to the Department. Doctors who submit the medical information electronically will no longer submit paper-based forms to the Department. It is the intention of the Department to discontinue the paper versions as this electronic submission option is made available to all panel physicians worldwide.

At posts that continue in the short term to use the paper version of the medical forms, panel physicians will keep copies of the form at their offices. The completed forms are then submitted in hard copy to the consular officer for processing.

Dated: April 27, 2011.
David T. Donahue,
Deputy Assistant Secretary, Bureau of Consular Affairs, Department of State.

[FR Doc. 2011-11407 Filed 5-10-11; 8:45 am]

BILLING CODE 4710-06-P